DEPARTMENT OF HEALTH AND HUMAN SERVICES

National Institutes of Health

The National Institute of Dental and Craniofacial Research (NIDCR) Strategic Plan Request for Comments

SUMMARY: NIDCR is developing a new strategic plan to guide the Institute's research efforts and priorities over the next six years (2014-2019). The purpose of this time-sensitive Request for Information (RFI) is to seek input from a broad range of stakeholders about prospective activities, areas of research emphasis, future research approaches, needs, and opportunities.

DATES: To ensure consideration, your responses must be received by Friday, September 6, 2013.

ADDRESSES: Responses to this Notice must be submitted electronically using either the web-based format at http://www.nidcr.nih.gov/NewsAndFeatures/Announcements/GiveUsYourIdeasforNIDCRsNextStrategicPlan or email to NIDCRStrategicPlanCo@nidcr.nih.gov.

FOR FURTHER INFORMATION CONTACT: Dr. Margo Adesanya, Acting Director, Office of Science Policy and Analysis, National Institute of Dental and Craniofacial Research, 9000 Rockville Pike, Bldg. 31, Rm. 5B/55, MSC 2190, Bethesda, MD 20892, Telephone: 301-594-8774, Fax: 301-496-9988, Email: Margo.Adesanya@nih.gov.

SUPPLEMENTARY INFORMATION:

Background

NIDCR, the lead Federal agency for research and research training on oral, dental and craniofacial diseases and disorders, has a distinguished record of supporting research to advance the oral health of the nation for 65 years. The mission of the NIDCR is to improve oral, dental and craniofacial health through research, research training, and the dissemination of health information. We accomplish our mission by performing and supporting basic and clinical research; conducting and funding research training and career development programs to ensure an adequate number of talented, well-prepared and diverse investigators; coordinating and assisting relevant research and research-related activities among all sectors of the research community; and promoting the timely transfer of knowledge gained from research and its implications for health to the public, health professionals, researchers, and policy-makers.

Information Requested

This notice invites public comment and input on the development of the next strategic plan. We ask that you consider cross-cutting research opportunities, and/or needs that could have the greatest benefit for advancing oral health.

To inform development of the strategic plan, input is being sought on each of the areas identified below.

(1) “Transformative” areas of research where new discoveries could have the greatest benefit for advancing dental, oral, and craniofacial research.

(2) New technical capabilities or tools that can have a significant impact on dental, oral, and craniofacial research and clinical practice in the next fifteen years.

(3) Scientific advances that could result in a quantum leap in the care of dental, oral, and craniofacial disorders.

(4) Major challenges and opportunities for revolutionizing how we understand, prevent, diagnose and manage dental, oral, and craniofacial diseases and disorders.

(5) NIDCR's role and potential for expanding and enhancing the pipeline for new dental, oral, and craniofacial researchers.

(6) Potential areas for Public-Private Partnerships—partnerships that will allow NIDCR to work collaboratively with both public and private entities to advance research and improve the public health.

(7) Any additional comments or information you think would be useful to NIDCR in developing its 2014-2019 Strategic Plan.

General Information

All of the following fields in the response are optional and voluntary. Any personal identifiers will be removed when responses are compiled. Proprietary, classified, confidential, or sensitive information should not be included in your response. This notice is for planning purposes only and is not a solicitation for applications or an obligation on the part of the United States (U.S.) government to provide support for any ideas identified in response to it. Please note that the U.S. government will not pay for the preparation of any comment submitted or for its use of that comment.

Please indicate if you are one of the following: grantee, administrator, student, patient advocate, Dean/or Institutional administrator, NIH employee, or other. If you are an investigator, please indicate your career level and main area of research interest, including whether the focus is clinical or basic. If you are a member of a particular advocacy or professional organization, please indicate the name and primary focus of the organization (i.e., research support, patient care, etc.) and whether you are responding on behalf of your organization (if not, please indicate your position within the organization).

Please provide your name and email address.

Privacy Act Notification Statement: We are requesting your comments for the 2014-2019 National Institute of Dental and Craniofacial Research (NIDCR) Strategic Plan. The information you provide may be disclosed to NIDCR senior staff serving on the strategic plan steering committee and to contractors working on our behalf. Submission of this information is voluntary. However, the information you provide will help to categorize responses by scientific area of expertise, organizational entity or professional affiliation.

Collection of this information is authorized under 42 U.S.C. 203, 24 1, 2891-1 and 44 U.S.C. 310 I and Section 301 and 493 of the Public Health Service Act regarding the establishment of the National Institutes of Health, its general authority to conduct and fund research and to provide training assistance, and its general authority to maintain records in connection with these and its other functions.

Dated: July 18, 2013.
Martha J. Somerman,
Director, National Institute of Dental and Craniofacial Research, National Institutes of Health.

[FR Doc. 2013-18214 Filed 7-29-13; 8:45 am]

BILLING CODE 4140-01-P